DEPARTMENT OF DEFENSE

GENERAL SERVICES ADMINISTRATION

NATIONAL AERONAUTICS AND SPACE ADMINISTRATION

[OMB Control No. 9000-0147]

Federal Acquisition Regulation; Submission for OMB Review; Pollution Prevention and Right-to-Know Information

AGENCY: Department of Defense (DOD), General Services Administration (GSA), and National Aeronautics and Space Administration (NASA).

ACTION: Notice of request for public comments regarding an extension to an existing OMB clearance (9000-0147).

SUMMARY: Under the provisions of the Paperwork Reduction Act of 1995 (44 U.S.C. Chapter 35), the Federal Acquisition Regulation (FAR) Secretariat will be submitting to the Office of Management and Budget (OMB) a request to review and approve an extension of a currently approved information collection requirement concerning pollution prevention and right-to-know information. A request for public comments was published in the Federal Register at 74 FR 32163 on July 7, 2009. No comments were received.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before October 26, 2009.

ADDRESSES: Submit comments, including suggestions for reducing this burden to: FAR Desk Officer, OMB, Room 10102, NEOB, Washington, DC 20503, and a copy to the General Services Administration, Regulatory Secretariat (VPR), 1800 F Street, NW., Room 4041, Washington, DC 20405.

FOR FURTHER INFORMATION CONTACT: William Clark, Contract Policy Division, GSA, (202) 219-1813 or e-mail william.clark@gsa.gov.

SUPPLEMENTARY INFORMATION:

A. Purpose

Federal Acquisition Regulation (FAR) subpart 23.10, implements Executive Order (E.O.) 13148 of April 21, 2000, Greening the Government through Leadership in Environmental Management, and it also provides a means for agencies to obtain contractor information for the implementation of environmental management systems (EMSs) and the completion of facility compliance audits (FCAs) at certain Federal facilities. This information collection will be accomplished by means of Alternates I and II to FAR clause 52.223-5. Alternate I of 52.223-5 require contractors to provide information needed by a Federal facility to implement an EMS and Alternate II of 52.223-5 requires contractors to complete an FCA. FAR subpart 23.10 and its associated contract clause at FAR 52.223-5 also implement the requirements of E.O. 13148 to require that Federal facilities comply with the planning and reporting requirements of the Pollution Prevention Act (PPA) of 1990 (42 U.S.C. 13101-13109), and the Emergency Planning and Community Right-to-Know Act (EPCRA) of 1986 (42 U.S.C. 11001-11050). The E.O. requires that contracts to be performed on a Federal facility provide for the contractor to supply to the Federal agency all information the Federal agency deems necessary to comply with these reporting requirements.

B. Annual Reporting Burden

Number of Respondents: 7,460.

Responses per Respondent: 1.

Annual Responses: 7,460.

Average Burden per Response: 2.834.

Total Burden Hours: 21,140.

Obtaining Copies of Proposals: Requesters may obtain a copy of the information collection documents from the General Services Administration, Regulatory Secretariat (VPR), 1800 F Street, NW., Room 4041, Washington, DC 20405, telephone (202) 501-4755. Please cite OMB Control Number 9000-0147, Pollution Prevention and Right-to-Know Information, in all correspondence.

Dated: September 17, 2009.
Al Matera,
Director, Acquisition Policy Division.

[FR Doc. E9-23091 Filed 9-23-09; 8:45 am]

BILLING CODE 6820-EP-P